DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology, Commerce.

Title: Summer High School Intern Program (SHIP).

OMB Control Number: 0693-XXXX.

Form Number(s): None.

Type of Request: Regular Submission (new collection).

Number of Respondents: 350.

Average Hours per Response: 8.

Burden Hours: 2,800.

Needs and Uses: The Summer High School Intern Program (SHIP) is a NIST-wide 8-week summer intern program for students who will have finished their junior or senior year of high school by the start of the program, are U.S. citizens, and are interested in scientific research. Students selected for this competitive volunteer program will participate in cutting-edge research at NIST, and will work closely with NIST staff scientists and engineers on a specific research problem.

The first round of the application process is completed via an on-line application through the Student Information System which collects basic biographical information about the student. This information is reviewed and finalists are invited to submit secondary materials via email to ship@nist.gov. These secondary materials include a resume, transcript, letters of recommendation, personal statement, and parental consent and commitment form.

Affected Public: Individuals or households; local government (public schools).

Frequency: Once a year.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 20, 2015.
Glenna Mickelson,
Management Analyst, Office of the Chief Information Officer.

[FR Doc. 2015-03870 Filed 2-24-15; 8:45 am]

BILLING CODE 3510-DT-P